SMALL BUSINESS ADMINISTRATION

Advisory Committee on Veterans Business Affairs; Public Meeting

The SBA Advisory Committee on Veterans Business Affairs

The U.S. Small Business Administration (SBA), pursuant to the Veterans Entrepreneurship and Small Business Development Act of 1999 (Public Law 106-50), will be hosting its third meeting of fiscal year 2004, the Advisory Committee on Veterans Business Affairs. The meeting will begin on Wednesday, September 8, 2004, until Thursday, September 9, 2004, starting at 9 a.m. until 5 p.m. The meeting will be held at the U.S. Small Business Administration Headquarters, located at 409 3rd Street, SW., Washington, DC 20416, in the Eisenhower Conference Room, located on the 2nd floor, Side B.

If you have any questions or concerns regarding this meeting, please contact Cheryl Clark in the Office of Veterans Business Development (OVBD) at (202) 205-6773.

Matthew K. Becker,
Committee Management Officer.

[FR Doc. 04-19499 Filed 8-25-04; 8:45 am]

BILLING CODE 8025-01-P